DEPARTMENT OF HOMELAND SECURITY

Coast Guard

[USCG-2005-21863]

Letter of Recommendation; Proposed Broadwater LNG Project, Long Island Sound

AGENCY: Coast Guard, DHS.

ACTION: Request for comments; notice of public meeting.

SUMMARY: In accordance with the requirements in Title 33 Code of Federal Regulations (CFR), Section 127.009, the U.S. Coast Guard Captain of the Port (COTP) Long Island Sound, is preparing a Letter of Recommendation as to the suitability of Long Island Sound for liquefied natural gas (LNG) marine traffic. This Letter of Recommendation will encompass the marine safety and security aspects associated with the proposed Broadwater LNG facility. The letter of recommendation is in response to a Letter of Intent submitted by Broadwater Energy, a joint venture of Shell Oil and TransCanada Corporation, to construct and operate an offshore floating, storage and regasification unit (FSRU) for liquefied natural gas (LNG) in the New York State waters of Long Island Sound. Because the proposed facility would be located in state waters, the Federal Energy Regulatory Commission (FERC) is the lead Federal agency for this proposed project. The COTP Long Island Sound is soliciting written comments and related material, and will join FERC at four public meetings seeking comments, pertaining specifically to maritime safety and security aspects of the proposed LNG facility. In preparation for issuance of a letter of recommendation and the completion of certain other regulatory mandates, the COTP Long Island Sound will consider comments received from the public as input into the Coast Guard's assessment of potential waterway safety and port security issues associated with the proposed facility.

DATES: All written comments and related material must reach the Coast Guard on or before October 7, 2005. In addition, four public meetings will be held regarding this proposal, on the following dates and locations:

• September 13, 2005, at Stony Brook University, Charles B. Wang Center, RT 25A, Stony Brook, NY;

• September 14, 2005, at Shoreham-Wading River Middle School (Albert Prodell Middle School), 100 Randall Road, Shoreham, NY;

• September 20, 2005, at E. Lyme High School, 30 Chesterfield Road, East Lyme, CT; and

• September 21, 2005, at Branford High School, 185 East Main Street, Branford, CT;

All four public meetings will be held from 7 p.m. to 10 p.m. The comment period associated with the public meeting will remain open until October 7, 2005.

ADDRESSES: You may submit comments identified by Coast Guard docket number USCG-2005-21863, to the Docket Management Facility at the U.S. Department of Transportation. Comments submitted to the Coast Guard should relate to the marine safety and security aspects associated with the proposed Broadwater LNG facility. To avoid duplication, please use only one of the following methods:

1. Web site: http://dms/dot/gov.

2. Mail: Docket Management Facility, U.S. Department of Transportation, 400 Seventh Street, SW., Washington, DC 20590-0001.

3. Fax: (202) 493-2251.

4. Delivery: Room PL-401 on the Plaza level of the Nassif Building, 400 Seventh Street, SW., Washington, DC between 9 a.m. and 5 p.m., Monday through Friday, except Federal holidays. The telephone number is (202) 366-9329.

5. Federal eRulemaking Portal: http://www.regulations.gov.

You may also submit comments relating to the maritime safety and security of the proposed facility to Commanding Officer, U.S. Coast Guard Sector Long Island Sound. All comments received by Sector Long Island Sound will be forwarded to the Docket Management Facility. Duplicate copies of comments submitted to the Docket Management Facility need not be submitted to the COTP Long Island Sound. COTP Long Island Sound will review and consider all comments submitted to the Docket Management Facility as well as those received directly.

FOR FURTHER INFORMATION CONTACT: If you have questions on this notice, contact LT Andrea Logman at Coast Guard Sector Long Island Sound by one of the methods listed below:

(1) Phone at (203) 468-4429;

(2) E-mail at alogman@sectorlis.uscg.mil; or

(3) Fax to (203) 468-4445.

If you have questions on viewing or submitting material to the docket, call Andrea M. Jenkins, Program Manager, Docket Operations, telephone (202) 366-0271.

SUPPLEMENTARY INFORMATION:

Request for Written Comments

We encourage you to submit written comments and related material pertaining specifically to marine safety and security aspects associated with the proposed Broadwater LNG facility. If you do so, please include your name and address, identify the docket number for this notice (USCG-2005-21863) and give the reason for each comment. You may also submit your comments and related material by mail, electronically or hand delivery, as described in ADDRESSES, or you may send them by fax or e-mail using the contact information under FOR FURTHER INFORMATION CONTACT. To avoid confusion and duplication, please submit your comments and material by only one means.

If you submit comments by mail or hand delivery, submit them in an unbound format, no larger than 8½ by 11 inches, suitable for copying and electronic filing. If you submit them by mail and would like to know that they reached the Docket Management Facility or U.S. Coast Guard Sector Long Island Sound, please enclose a stamped, self-addressed postcard or envelope.

All comments received will be posted, without charge, to http://dms.dot.gov and will include any personal information you have provided. We have an agreement with the Department of Transportation (DOT) to use the Docket Management Facility. Please see DOT's “Privacy Act” paragraph below.

To view comments, as well as documents mentioned in this preamble as being available in the document, go to http://dms.dot.gov at any time and conduct a simple search using the docket number, USCG-2005-21863. You may also visit the Docket Management Facility in room PL-401 on the Plaza Level of the Nassif Building, 400 Seventh Street, SW., Washington, DC, between 9 a.m. and 5 p.m., Monday through Friday, except Federal holidays.

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meeting

Due to the scope and complexity of this project, we have decided to jointly hold four public meetings with FERC to allow the public the opportunity to comment on the proposed LNG facility. The dates and locations of these meetings are listed under DATES above. Organizations and members of the public may provide oral statements regarding the suitability of Long Island Sound for LNG vessel traffic at these meetings. In the interest of time and use of the public meeting facility, the length of oral statements may be limited. Written comments may be submitted at the meeting or to the Docket up to October 7, 2005.

Background and Purpose

In accordance with the requirements of 33 CFR 127.007, Shell Oil and TransCanada Corporation under the joint company Broadwater LNG, submitted a letter of Intent on November 9, 2004, notifying the COTP Long Island Sound that they intend to construct and operate an offshore FSRU for LNG, named Broadwater Energy, in the New York State waters of Long Island Sound. An Amendment to the Letter of Intent was submitted on April 26, 2005, updating the location of the proposed FSRU. The proposed location of the FSRU is approximately nine (9) miles off the coast of Riverhead, New York, and about 11 miles from the nearest Connecticut shoreline.

FERC will be the lead agency for the Environmental Impact Statement (EIS) mandated by the National Environmental Policy Act. To help FERC make sure that the EIS covers the Coast Guard's Letter of Recommendation and other actions under this proposal, the Coast Guard will serve as a cooperating agency.

The proposed FSRU would serve as an LNG import terminal. LNG carriers (ships) would berth at the FSRU and LNG would be transferred from the carriers to the storage tanks located on the FSRU. The Broadwater FSRU is designed to have an onboard LNG storage capacity of up to 350,000 cubic meters (m³). The LNG would then be re-gasified and metered into natural gas pipelines. The terminal would connect with the existing subsea Iroquois Gas Transmission System pipeline via an underwater connecting pipeline that would be about 25 miles long.

LNG would be delivered to the terminal in double-hulled LNG carriers. Typical LNG carriers currently have a carrying capacity of 135,000 m³ (4,767,480 ft³). The largest LNG tanker in operation has a capacity of 145,000 m³ (5,120,627 ft³). Current LNG carriers are approximately 900 to 1000 feet long with up to approximately a 145 foot wide beam, and draw between 36 and 39 feet of water. Larger LNG carriers capable of transporting as much as 225,000 m³ to 250,000 m³ (7,945,799 ft³3 to 8,828,666 ft³3) of LNG are being considered. The Broadwater FSRU would receive approximately between 2 and 3 vessels per week, or approximately 100 to 160 LNG vessels per year, depending upon natural gas demand and carrier size.

The U.S. Coast Guard exercises regulatory authority over LNG facilities which affect the safety and security of port areas and navigable waterways under Executive Order 10173, the Magnuson Act (50 U.S.C. 191), the Ports and Waterways Safety Act of 1972, as amended (33 U.S.C. 1221, et seq.) and the Maritime Transportation Security Act of 2002 (46 U.S.C. 701). The Coast Guard is responsible for matters related to navigation safety, vessel engineering and safety standards. The Coast Guard also has authority for LNG facility security plan review, approval, and compliance verification as provided in Title 33 CFR part 105, and recommendation for siting as it pertains to the management of vessel traffic in and around the LNG facility.

Upon receipt of a letter of intent from an owner or operator intending to build a new LNG facility, the Coast Guard COTP conducts an analysis that results in a letter of recommendation issued to the owner or operator and to the state and local governments within whose jurisdictions the proposed facility lies, addressing the suitability of the waterway to accommodate LNG vessels. Specifically, the letter of recommendation addresses the suitability of the waterway based on:

• The physical location and layout of the facility and its berthing and mooring arrangements.

• The LNG vessels' characteristics and the frequency of LNG shipments to the facility.

• Commercial, industrial, environmentally sensitive, and residential areas in and adjacent to the waterway used by the LNG vessels en route to the facility.

• Density and character of marine traffic on the waterway.

• Bridges or other manmade obstructions in the waterway.

• Depth of water.

• Tidal range.

• Natural hazards, including rocks and sandbars.

• Underwater pipelines and cables.

• Distance of berthed LNG vessels from the channel, and the width of the channel.

In addition, the Coast Guard will review and approve the facility's operations manual and emergency response plan (33 CFR 127.019), as well as the facility's security plan (33 CFR 105.410). The Coast Guard will also provide input to other Federal, State, and local government agencies reviewing the project.

FERC is the lead Federal agency responsible for licensing LNG facilities located on shore and within state waters. Under an interagency agreement, the Coast Guard will provide input to, and coordinate with, FERC on maritime safety and security aspects of the proposed Broadwater LNG project. FERC will be the lead agency for the Environmental Impact Statement (EIS) mandated by the National Environmental Policy Act. To help FERC make sure that the EIS covers the Coast Guard's Letter of Recommendation and other actions under this proposal, the Coast Guard will serve as a cooperating agency.

In order to complete a thorough analysis and fulfill the regulatory mandates cited above, the COTP Long Island Sound will be conducting an assessment of the various safety and security aspects associated with the proposed Broadwater LNG proposed project. This assessment will be accomplished through a series of workshops focusing on the areas of waterways safety, port security, and consequence management, with involvement from a broad cross-section of government and port stakeholders with expertise in each of the respective areas. The workshops will be by invitation only. However, comments received during the public comment period will be considered as input into the assessment process.

Additional Information

Additional information about the Broadwater LNG project is available from FERC's Office of External Affairs at 1-866-208-FERC or on the FERC Internet Web site (http://www.ferc.gov) using their eLibrary link. Comments relating to aspects other than marine safety and security aspects associated with the proposed Broadwater LNG facility may be submitted at this Web site. For assistance, please contact FERC online support at FERCOnlineSupport@ferc.gov or toll free at 1-866-208-3676, or for TTY contact 1-202-502-8659.

Information on Services for Individuals with Disabilities. For information on facilities or services for individuals with disabilities, or to request assistance at the meeting, contact LT A. Logman listed under FOR FURTHER INFORMATION CONTACT as soon as possible.

Dated: August 9, 2005.
Peter J. Boynton,
Captain, U.S. Coast Guard, Captain of the Port Long Island Sound.

[FR Doc. 05-16287 Filed 8-12-05; 1:32 pm]

BILLING CODE 4910-15-P